DEPARTMENT OF STATE

[Public Notice: 8661]

Notification of the Eighth Meeting of the Environmental Affairs Council of the Dominican Republic-Central America-United States Free Trade Agreement (CAFTA-DR)

AGENCY: Department of State.

ACTION: Notice of the CAFTA-DR Environmental Affairs Council Meeting and request for comments.

SUMMARY: The Department of State and the Office of the United States Trade Representative are providing notice that the parties to the Dominican Republic-Central America-United States Free Trade Agreement (CAFTA-DR) intend to hold the eighth meeting of the Environmental Affairs Council (Council) established under Chapter 17 of that agreement in New Orleans, Louisiana on April 2 and 3, 2014 at Tulane University Law School. The purpose of the Council meeting is to review implementation of Chapter 17 (Environment) of CAFTA-DR. All interested persons are invited to attend a public session beginning at 9:30 a.m. on April 3, 2014.

During the Council meeting, Council Members will discuss progress in implementing Chapter 17 obligations and the results of environmental cooperation in their respective countries. The Council will also hear presentations from the CAFTA-DR Secretariat for Environmental Matters (SEM) and the Organization of American States (OAS). At the public session, the Council will highlight issues discussed during the Council meeting, with a particular focus on Chapter 17 obligations and environmental cooperation.

All interested persons are invited to attend the public session where they will have the opportunity to ask questions and discuss implementation of Chapter 17 and environmental cooperation. In addition, the SEM will present on the public submission process established under Chapter 17 and the OAS will present on environmental cooperation activities. More information on the Council is included below under Supplementary Information.

The Department of State and Office of the United States Trade Representative invite written comments or suggestions regarding the meeting. We encourage those considering submitting comments to refer to Chapter 17 of CAFTA-DR, the Final Environmental Review of CAFTA-DR, and the Agreement among the CAFTA-DR countries on Environmental Cooperation Activities. (All documents are available at http://www.state.gov/e/oes/eqt/trade/caftadr/index.htm.)

DATES: The public session of the Council will be held on April 3, 2014, from 9:30 a.m.-1:00 p.m. We request comments and suggestions in writing no later than March 28, 2014.

ADDRESSES: Written comments or suggestions should be submitted to both:

(1) Eloise Canfield, U.S. Department of State, Bureau of Oceans and International Environmental and Scientific Affairs, Office of Environmental Quality and Transboundary Issues by email to CanfieldM2@state.gov with the subject line “CAFTA-DR EAC Meeting” or by fax to (202) 647-5947; and

(2) Sarah Stewart, Director for Environment and Natural Resources, Office of the United States Trade Representative by email to Sarah_Stewart@ustr.eop.gov with the subject line “CAFTA-DR EAC Meeting” or by fax to (202) 395-9517. If you have access to the Internet, you can view and comment on this notice by going to: http://www.regulations.gov/#!home and searching on docket number DOS-2014-0005.

FOR FURTHER INFORMATION CONTACT: Eloise Canfield, (202) 647-4750 or Sarah Stewart, (202) 395-3858.

SUPPLEMENTARY INFORMATION: Article 17.5 of CAFTA-DR establishes an Environmental Affairs Council (the Council). Article 17.5 requires the Council to meet to oversee the implementation of, and review progress under, Chapter 17. Article 17.5 further requires, unless the governments otherwise agree, that each meeting of the Council include a session in which members of the Council have an opportunity to meet with the public to discuss matters relating to the implementation of Chapter 17.

In Article 17.9 of CAFTA-DR, the governments recognize the importance of strengthening capacity to protect the environment and to promote sustainable development in concert with strengthening trade and investment relations and state their commitment to expanding their cooperative relationship on environmental matters. Article 17.9 also references the Environmental Cooperation Agreement, which sets out certain priority areas of cooperation on environmental activities that are also reflected in Annex 17.9 of CAFTA-DR. These priority areas include, among other things: Reinforcing institutional and legal frameworks and the capacity to develop, implement, administer, and enforce environmental laws, regulations, standards, and policies; conserving and managing shared, migratory, and endangered species in international trade and management of protected areas; promoting best practices leading to sustainable management of the environment; and facilitating technology development and transfer and training to promote clean production technologies.

If you would like to attend the public session, please notify Eloise Canfield at the email address listed above under the heading ADDRESSES. Please include your full name and identify any organization or group you represent. In preparing comments, we encourage submitters to refer to:

• Chapter 17 of CAFTA-DR,

• The Final Environmental Review of CAFTA-DR, and

• The Environmental Cooperation Agreement.

These documents are available at: http://www.state.gov/e/oes/eqt/trade/caftadr/index.htm. Visit http://www.state.gov and the USTR Web site at www.ustr.gov for more information.

Dated: March 12, 2014.
Deborah Klepp,
Director, Office of Environmental Quality and Transboundary Issues, U.S. Department of State.

[FR Doc. 2014-06060 Filed 3-18-14; 8:45 am]

BILLING CODE 4710-09-P